DEPARTMENT OF THE INTERIOR

Bureau of Ocean Energy Management

[Docket No. BOEM-2014-0042]

Notice of Determination of No Competitive Interest for the Pacific Marine Energy Center South Energy Test Site Project Offshore Newport, Oregon MMAA104000

AGENCY: Bureau of Ocean Energy Management (BOEM), Interior.

ACTION: Notice.

SUMMARY: This notice provides BOEM's determination that there is no competitive interest in the area requested by the Northwest National Marine Renewable Energy Center at Oregon State University (NNMREC-OSU) to acquire an Outer Continental Shelf (OCS) marine hydrokinetic (MHK) research lease as described in the Potential Marine Hydrokinetic (MHK) Research Lease on the Outer Continental Shelf (OCS) Offshore Oregon, Request for Competitive Interest (RFCI) that BOEM published on March 24, 2014 (79 FR 16050). The RFCI described NNMREC-OSU's request to obtain a lease for renewable energy research activities approximately five nautical miles offshore Newport, Oregon and provided an opportunity for the public to submit comments about the proposal.

DATES: Effective June 20, 2014.

FOR FURTHER INFORMATION CONTACT: Ms. Jean Thurston, Renewable Energy Specialist, BOEM, Pacific OCS Region, Office of Strategic Resources, 770 Paseo Camarillo, Second Floor, Camarillo, California 93010, Phone: (805) 389-7585.

SUPPLEMENTARY INFORMATION:

Authority

This Determination of No Competitive Interest (DNCI) is published pursuant to subsection 8(p)(3) of the OCS Lands Act (43 U.S.C. 1337(p)(3)), and the implementing regulations at 30 CFR Part 585. Subsection 8(p)(3) of the OCS Lands Act requires that OCS renewable energy leases, easements, or rights-of-way (ROW) be issued “on a competitive basis unless the Secretary [of the Interior] determines after public notice of a proposed lease, easement, or ROW that there is no competitive interest.” The Secretary delegated the authority to make such determinations to BOEM.

Determination and Next Steps

This DNCI provides notice to the public that BOEM has determined there is no competitive interest in the proposed lease area, as no indications of competitive interest were submitted in response to the RFCI.

In the RFCI, BOEM also solicited public input from interested stakeholders regarding the proposed lease area, the potential environmental consequences of MHK energy development in the area, and multiple uses of the area. In response to the RFCI, BOEM received public comment submissions from six entities. BOEM will use the comments to inform subsequent decisions. After publication of this DNCI, BOEM may proceed with the noncompetitive leasing process for a research lease pursuant to 30 CFR 585.238.

Map of the Area

A map of the area proposed for a research lease can be found at the following Web site: http://www.boem.gov/State-Activities-Oregon.

Dated: May 30, 2014.
Walter D. Cruickshank,
Acting Director, Bureau of Ocean Energy Management.

[FR Doc. 2014-14002 Filed 6-19-14; 8:45 am]

BILLING CODE 4310-MR-P